DEPARTMENT OF EDUCATION

[Docket ID ED-2020-FSA-0180]

Privacy Act of 1974; System of Records

AGENCY: Federal Student Aid, U.S. Department of Education.

ACTION: Rescindment of systems of records notices.

SUMMARY: In accordance with the Privacy Act of 1974, as amended (Privacy Act), the U.S. Department of Education (Department) publishes this rescindment for six systems of records from its existing inventory of systems of records subject to the Privacy Act.

The notices addressed in this rescindment of systems of records notice are rescinded because they have been superseded by more recent notices published by the Department.

DATES: Submit your comments on these rescinded systems of records notice on or before April 7, 2021. Each rescinded system of records will become applicable March 8, 2021, unless it needs to be changed as a result of public comment.

ADDRESSES: Submit your comments through the Federal eRulemaking Portal or via postal mail, commercial delivery, or hand delivery. We will not accept comments submitted by fax or by email or those submitted after the comment period. To ensure that we do not receive duplicate copies, please submit your comments only once. In addition, please include the Docket ID and at the top of your comments.

• Federal eRulemaking Portal: Go to www.regulations.gov to submit your comments electronically. Information on using Regulations.gov, including instructions for accessing agency documents, submitting comments, and viewing the docket, is available on the site under the “help” tab.

• Postal Mail, Commercial Delivery, or Hand Delivery: If you mail or deliver your comments about this Rescindment of Systems of Records Notice, address them to: Director, Program Delivery Services Group, Federal Student Aid, U.S. Department of Education, 830 First Street NE, Room 64A3, Washington, DC 20202.

Privacy Note: The Department's policy is to make all comments received from members of the public available for public viewing in their entirety on the Federal eRulemaking Portal at www.regulations.gov. Therefore, commenters should be careful to include in their comments only information that they wish to make publicly available.

Assistance to Individuals with Disabilities in Reviewing the Rulemaking Record: On request, we will provide an appropriate accommodation or auxiliary aid to an individual with a disability who needs assistance to review the comments or other documents in the public rulemaking record for this notice. If you want to schedule an appointment for this type of accommodation or aid, please contact the person listed under FOR FURTHER INFORMATION CONTACT.

FOR FURTHER INFORMATION CONTACT: LaShae Jones, Federal Student Aid, U.S. Department of Education, 830 First Street NE, Room 64A3, Washington, DC 20202. Telephone: (202) 377-3121. Email: LaShae.Jones@ed.gov.

If you use a telecommunications device for the deaf (TDD) or a text telephone (TTY), you may call the Federal Relay Service, toll free, at 1-800-877-8339.

SUPPLEMENTARY INFORMATION: The Department rescinds the following six systems of records from its inventory of systems of records subject to the Privacy Act. The rescindments are not within the purview of subsection (r) of the Privacy Act, which requires submission of a report to the Office of Management and Budget and the committees of jurisdiction in Congress on a new or significantly modified system of records.

The system of records titled “Student Financial Assistance Validation File” (18-11-03) relates to records used to determine program eligibility and benefits for Federal student financial assistance under the programs authorized by under title IV of the Higher Education Act of 1965, as amended (HEA), enforce the conditions and terms of a title IV of the HEA loan or grant, counsel an individual in repayment efforts, investigate possible fraud and verify compliance with program regulations, locate a delinquent or defaulted debtor, and initiate legal action against an individual involved in program fraud or abuse. The Department rescinds this system of records because the records previously maintained in the system are now maintained within the system of records titled “National Student Loan Data System (NSLDS)” (18-11-06), which was last published in the Federal Register on September 9, 2019 (84 FR 47265).

The system of records titled “Student Account Manager” (18-11-08) relates to records maintained for various purposes relating to students and borrowers. This includes determining student/borrower eligibility for Federal student financial assistance under the programs authorized by title IV of the HEA, to assist institutions of higher education in participating in and administering the title IV of the HEA programs by verifying the eligibility of borrowers and tracking loans, and to assist the Department's oversight and administration of the title IV of the HEA programs, including evaluating their effectiveness. The Department rescinds this system of records because the records previously maintained within this system are now maintained in the systems of records titled “Federal Student Aid Application File” (18-11-01), which was last published in the Federal Register on October 29, 2019 (84 FR 57856), and “Common Origination and Disbursement (COD) System” (18-11-02), which was last published in the Federal Register on August 16, 2019 (84 FR 41979).

The Department rescinds the system of records titled “Student Authentication Network Audit File” (18-11-13). The records in this system contain information on individuals who have had, or attempted to have, their identity authenticated for the purpose of electronically completing and signing promissory notes and other documents under the Student Financial Assistance Program authorized by title IV of the HEA. The Department rescinds this system of records because the records previously maintained in the system are now maintained in the system of records titled “Person Authentication Service (PAS)” (18-11-12), which was published in the Federal Register on March 20, 2015 (80 FR 14981).

The system of records titled “FSA Students Portal” (18-11-14) was required because Federal Student Aid (FSA) modified the existing FSA Students Portal to bring together into one, simple website all the information and productivity tools relevant to FSA's customers. The Department rescinds this system of records because it has been discontinued. The records previously maintained in this system are now maintained within the “Common Origination and Disbursement (COD) System” (18-11-02), which was last published in the Federal Register on August 16, 2019 (84 FR 41979).

The system of records titled “Return of Title IV Funds on the Web” (18-11-15) was a web-based product provided for postsecondary institutions to calculate the earned and unearned portions of student aid distributed under title IV of the HEA, when a student withdraws from a postsecondary institution without completing the period for which funds were awarded. The Department rescinds this system of records because the “Return of Title IV Funds on the Web” website has been discontinued. The records previously maintained in the system are now contained within the “Common Origination and Disbursement (COD) System” (18-11-02), which was last published in the Federal Register on August 16, 2019 (84 FR 41979).

The Department rescinds the system of records titled “School Participation Division—Complaint Tracking System (SPD-CTS)” (18-11-19) because the system has been discontinued. The records previously maintained in the system are now contained in the system of records titled “Customer Engagement Management System (CEMS)” (18-11-11), which was published in the Federal Register on June 13, 2018 (83 FR 27587).

SYSTEM NAME AND NUMBER:

1. Student Financial Assistance Validation File (18-11-03).

2. Student Account Manager (18-11-08).

3. Student Authentication Network Audit File (18-11-13).

4. FSA Students Portal (18-11-14).

5. Return of Title IV Funds on the Web (18-11-15).

6. School Participation Division—Complaint Tracking System (SPD-CTS) (18-11-19).

HISTORY:

1. The system of records titled “Student Financial Assistance Validation File” was published in the Federal Register at 64 FR 30162-30163 (June 4, 1999) and corrected at 64 FR 72405, 72407 (December 27, 1999).

2. The system of records titled “Student Account Manager” was published in the Federal Register at 64 FR 30169-30171 (June 4, 1999) and corrected at 64 FR 72405, 72407 (December 27, 1999).

3. The system of records titled “Student Authentication Network Audit File” was published in the Federal Register at 66 FR 29420-29422 (May 30, 2001) and corrected at 66 FR 45669 (August 29, 2001).

4. The system of records titled “FSA Students Portal” was published in the Federal Register at 68 FR 23113-23117 (April 30, 2003).

5. The system of records titled “Return of Title IV Funds on the Web” was published in the Federal Register at 69 FR 44521-44524 (July 26, 2004).

6. The system of records titled “School Participation Division—Complaint Tracking System (SPD-CTS)” was published in the Federal Register at 78 FR 12298-12302 (February 22, 2013).

Accessible Format: On request to the program contact person listed under FOR FURTHER INFROMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Mark A. Brown,
Chief Operating Officer, Federal Student Aid.

[FR Doc. 2021-04711 Filed 3-5-21; 8:45 am]

BILLING CODE 4000-01-P